NATIONAL CREDIT UNION ADMINISTRATION

Sunshine Act Meetings

TIME AND DATE: 11:30 a.m., Thursday, February 17, 2022.

PLACE: Due to the COVID-19 Pandemic, the meeting will be open to the public via live webcast only. Visit the agency's homepage (www.ncua.gov) and access the provided webcast link.

STATUS: This meeting will be open to the public.

MATTERS TO BE CONSIDERED:

1. Board Briefing, Share Insurance Fund Quarterly Report.

2. NCUA Rules and Regulations, Asset Threshold for Determining the Appropriate Supervisory Office.

3. NCUA Rules and Regulations, Prompt Corrective Action.

CONTACT PERSON FOR MORE INFORMATION: Melane Conyers-Ausbrooks, Secretary of the Board, Telephone: 703-518-6304.

Melane Conyers-Ausbrooks,
Secretary of the Board.

[FR Doc. 2022-03285 Filed 2-11-22; 11:15 am]

BILLING CODE 7535-01-P